DEPARTMENT OF THE INTERIOR

Bureau of Indian Affairs

[134D0102DRDS5B800000DR.5B811.IA000913DLB000000.000000]

Renewal of Agency Information Collection for Tribal Energy Development Capacity Program

AGENCY: Bureau of Indian Affairs, Interior.

ACTION: Notice of request for comments.

SUMMARY: In compliance with the Paperwork Reduction Act of 1995, the Assistant Secretary—Indian Affairs is seeking comments on the renewal of Office of Management and Budget (OMB) approval for the collection of information for the Tribal Energy Development Capacity (TEDC) program authorized by OMB Control Number 1076-0177. This information collection expires July 31, 2014.

DATES: Submit comments on or before May 30, 2014.

ADDRESSES: You may submit comments on the information collection to David B. Johnson, Office of Indian Energy and Economic Development, Assistant Secretary—Indian Affairs, 1951 Constitution Avenue NW., MS-20 SIB, Washington, DC 20240; facsimile: (202) 208-4564; email: DavidB.Johnson@bia.gov.

FOR FURTHER INFORMATION CONTACT: David Johnson, (202) 208-3026.

SUPPLEMENTARY INFORMATION:

I. Abstract

The Energy Policy Act of 2005 authorizes the Secretary of the Interior to provide assistance to Indian tribes and tribal energy resource development organizations for energy development and appropriates funds for such projects on a year-to-year basis. See 25 U.S.C. 3502. When funding is available, the Office of Indian Energy and Economic Development (IEED) may solicit proposals for projects for building capacity for tribal energy resource development on Indian land from tribal energy resource development organizations and Indian tribes, including Alaska Native regional and village corporations under the TEDC program. For the purposes of this program, “Indian land” includes: All land within the boundaries of an Indian reservation, pueblo, or Rancheria; any land outside those boundaries that is held by the United States in trust for a tribe or individual Indian or by a tribe or individual Indian with restrictions on alienation; and land owned by an Alaska Native regional or village corporation.

Those who would like to submit a TEDC project proposal must submit an application that includes certain information and, once funding is received must submit reports on how they are using the funding. A complete application must contain the following:

• A formal signed resolution of the governing body of the tribe or tribal energy resource development organization demonstrating authority to apply;

• A proposal describing the planned activities and deliverable products; and

• A detailed budget estimate, including contracted personnel costs, travel estimates, data collection and analysis costs, and other expenses.

The project proposal must include the information about the tribe or tribal energy resource development organization sufficient to allow IEED to evaluate the proposal based on the following criteria:

(a) Energy resource potential;

(b) Applicant's energy resource development history and current status;

(c) Applicant's existing energy resource development capabilities;

(d) Demonstrated willingness of the applicant to establish and maintain an independent energy resource development business entity;

(e) Intent to develop and retain energy development capacity within the applicant's government or business entities; and

(f) Applicant commitment of staff, training, or monetary resources.

The IEED requires this information to ensure that it provides funding only to those projects that meet the goals of the TEDC and the purposes for which Congress provides the appropriations.

II. Request for Comments

The IEED requests your comments on this collection concerning: (a) The necessity of this information collection for the proper performance of the functions of the agency, including whether the information will have practical utility; (b) The accuracy of the agency's estimate of the burden (hours and cost) of the collection of information, including the validity of the methodology and assumptions used; (c) Ways we could enhance the quality, utility, and clarity of the information to be collected; and (d) Ways we could minimize the burden of the collection of the information on the respondents.

Please note that an agency may not conduct or sponsor, and an individual need not respond to, a collection of information unless it has a valid OMB Control Number.

It is our policy to make all comments available to the public for review at the location listed in the ADDRESSES section. Before including your address, phone number, email address or other personal identifying information in your comment, you should be aware that your entire comment—including your personal identifying information—may be made publicly available at any time. While you can ask us in your comment to withhold your personal identifying information from public review, we cannot guarantee that we will be able to do so.

III. Data

OMB Control Number: 1076-0177.

Title: Tribal Energy Development Capacity Program Grants.

Brief Description of Collection: Indian tribes and tribal energy resource development organizations that would like to apply for TEDC funding must submit an application that includes certain information. A complete application must contain a formal signed resolution of the governing body of the tribe or tribal energy resource development organization, a proposal describing the planned activities and deliverable products; and a detailed budget estimate, including contracted personnel costs, travel estimates, data collection and analysis costs, and other expenses. The IEED requires this information to ensure that it provides funding only to those projects that meet the goals of the TEDC program and purposes for which Congress provides the appropriation. Upon acceptance of an application, the successful applicant must then submit one- to two-page progress reports twice during the grant period summarizing events, accomplishments, problems and/or results in executing the project. A response is required to obtain a benefit.

Type of Review: Extension without change of currently approved collection.

Respondents: Indian tribes and tribal energy resource development organizations under 25 U.S.C. 3502.

Number of Respondents: 26 per year, on average; 18 project participants each year, on average.

Frequency of Response: Once per year for applications; 2 times per year for progress reports.

Estimated Time per Response: 40 hours per application; 1.5 hours per progress report.

Estimated Total Annual Hour Burden: 1,067 hours (1,040 for applications and 27 for progress reports).

Estimated Total Annual Non-Hour Dollar Cost: $0.

Dated: March 25, 2014.
John Ashley,
Acting Assistant Director for Information Resources.

[FR Doc. 2014-07050 Filed 3-28-14; 8:45 am]

BILLING CODE 4310-G1-P